DEPARTMENT OF HEALTH AND HUMAN SERVICES

National Institutes of Health

Center For Scientific Review; Amended Notice of Meeting

Notice is hereby given of a change in the meeting of the Center for Scientific Review Special Emphasis Panel Member Conflict: Epidemiology and Population Health, March 28, 2023, 12:00 p.m. to March 28, 2023, 08:00 p.m., National Institutes of Health, Rockledge II, 6701 Rockledge Drive, Bethesda, MD 20892 which was published in the Federal Register on February 27, 2023, 88 FR 12388 Doc. 2023-03969.

This meeting is being amended to change the meeting start time from 12:00 p.m. to 11:00 a.m. The meeting is closed to the public.

Dated: March 3, 2023.
David W Freeman,
Program Analyst, Office of Federal Advisory Committee Policy.

[FR Doc. 2023-04798 Filed 3-8-23; 8:45 am]

BILLING CODE 4140-01-P